FEDERAL ELECTION COMMISSION

Sunshine Act Meeting

AGENCY: Federal Election Commission

FEDERAL REGISTER CITATION OF PREVIOUS ANNOUNCEMENT— 79 FR 5409 (JANUARY 31, 2014).

DATE & TIME: Tuesday February 4, 2014 at 10:00 a.m.

PLACE: 999 E Street NW., Washington, DC.

STATUS: This meeting will be closed to the public.

CHANGES IN THE MEETING— The Commission will also discuss: Internal personnel rules and internal rules and practices.

* * * * *

PERSON TO CONTACT FOR INFORMATION: Judith Ingram, Press Officer, Telephone: (202) 694-1220.

Shelley Garr,
Deputy Secretary of the Commission.

[FR Doc. 2014-02581 Filed 2-3-14; 4:15 pm]

BILLING CODE 6715-01-P